NUCLEAR REGULATORY COMMISSION

[Docket No. 50-335]

Florida Power And Light Company; Notice of Withdrawal of Application for Amendment to Facility Operating License

The U.S. Nuclear Regulatory Commission (the Commission) has granted the request of Florida Power and Light Company (the licensee) to withdraw its September 18, 2003, application for a proposed amendment to Facility Operating License No. DPR-67 for the St. Lucie Plant, Unit No. 1, located in St. Lucie County, Florida.

The proposed amendment would have revised the licensing bases to utilize the alternate source term as allowed in Title 10 of the Code of Federal Regulations, part 50, section 67 for reanalysis of the radiological consequences of the Updated Final Safety Analysis Report Chapter 15 accidents for St. Lucie Unit 1.

The Commission had previously issued a Notice of Consideration of Issuance of Amendment published in the Federal Register on October 28, 2003 (68 FR 61477). However, by letter dated August 11, 2005, the licensee withdrew the proposed change.

For further details with respect to this action, see the application for amendment dated September 18, 2003, and the licensee's letter dated August 11, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 22nd day of September 2005.
For the Nuclear Regulatory Commission.
Brendan T. Moroney,
Project Manager, Section 2, Project Directorate II, Division of Licensing Project Management, Office of Nuclear Reactor Regulation.

[FR Doc. E5-5330 Filed 9-29-05; 8:45 am]

BILLING CODE 7590-01-P